SECURITIES AND EXCHANGE COMMISSION

[SEC File No. 270-151, OMB Control No. 3235-0291]

Proposed Collection; Comment Request

Upon Written Request, Copies Available From: Securities and Exchange Commission, Office of FOIA Services, 100 F Street NE, Washington, DC 20549-2736

Extension:

Rules 17Adb-6 and 17Adb-7

Notice is hereby given that pursuant to the Paperwork Reduction Act of 1995 (“PRA”) (44 U.S.C. 3501 et seq.), the Securities and Exchange Commission (“Commission”) is soliciting comments on the existing collection of information provided for in Rule 17Adb-6 (17 CFR 240.17Adb-6) and Rule 17Adb-7 (17 CFR 240.17Adb-7) under the Securities Exchange Act of 1934 (15 U.S.C. 78a et seq.) (“Exchange Act”). The Commission plans to submit this existing collection of information to the Office of Management and Budget (“OMB”) for extension and approval.

Rule 17Adb-6 requires every registered transfer agent to make and keep current records about a variety of information, such as: (1) Specific operational data regarding the time taken to perform transfer agent activities (to ensure compliance with the minimum performance standards in Rule 17Adb-2 (17 CFR 240.17Adb-2)); (2) written inquiries and requests by shareholders and broker-dealers and response time thereto; (3) resolutions, contracts, or other supporting documents concerning the appointment or termination of the transfer agent; (4) stop orders or notices of adverse claims to the securities; and (5) all canceled registered securities certificates.

Rule 17Adb-7 requires each registered transfer agent to retain the records specified in Rule 17Adb-6 in an easily accessible place for a period of six months to six years, depending on the type of record or document. Rule 17Adb-7 also specifies the manner in which records may be maintained using electronic, microfilm, and microfiche storage methods.

These recordkeeping requirements are designed to ensure that all registered transfer agents are maintaining the records necessary for them to monitor and keep control over their own performance and for the Commission to adequately examine registered transfer agents on an historical basis for compliance with applicable rules.

The Commission estimates that approximately 359 registered transfer agents will spend a total of 179,500 hours per year complying with Rules 17Adb-6 and 17Adb-7 (500 hours per year per transfer agent).

The retention period under Rule 17Adb-7 for the recordkeeping requirements under Rule 17Adb-6 is six months to six years, depending on the particular record or document. The recordkeeping and retention requirements under Rules 17Adb-6 and 17Adb-7 are mandatory to assist the Commission and other regulatory agencies with monitoring transfer agents and ensuring compliance with the rules. These rules do not involve the collection of confidential information.

Written comments are invited on: (a) Whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted in writing within 60 days of this publication.

An agency may not conduct or sponsor, and a person is not required to respond to, a collection of information under the PRA unless it displays a currently valid OMB control number.

Please direct your written comments to: David Bottom, Director/Chief Information Officer, Securities and Exchange Commission, c/o Cynthia Roscoe, 100 F Street, NE Washington, DC 20549, or send an email to: PRA_Mailbox@sec.gov.

Dated: April 15, 2021.
J. Matthew DeLesDernier,
Assistant Secretary.

[FR Doc. 2021-08145 Filed 4-20-21; 8:45 am]

BILLING CODE 8011-01-P